DEPARTMENT OF HEALTH AND HUMAN SERVICES

Centers for Medicare & Medicaid Services

42 CFR Parts 431, 435 and 457

[CMS-2334-P2]

RIN 0938-AS55

Medicaid and Children's Health Insurance Programs: Eligibility Notices, Fair Hearing and Appeal Processes for Medicaid and Other Provisions Related to Eligibility and Enrollment for Medicaid and CHIP

Correction

In proposed rule document 2016-27848, appearing on pages 86467-86488 in the issue of Wednesday, November 30, 2016, make the following corrections:

On page 86467, in the first column, in the DATES section, and on page 86481 in the third column, in the fourth full paragraph following the table, “January 23, 2017” should read “January 30, 2017”.

[FR Doc. C1-2016-27848 Filed 1-25-17; 8:45 am]

BILLING CODE 1301-00-D